DEPARTMENT OF LABOR

Office of the Secretary

Notice of Intent to Fund the Fundacion Del Servicio Exterior Para La Paz Y La Democracia (FUNPADEM)

AGENCY: Bureau of International Labor Affairs, U.S. Department of Labor.

ACTION: Notice of Intent to award up to $2 million to the Fundacion Del Servicio Exterior Para La Paz Y La Democracia (Funpadem) under cooperative agreement #E-9-K-3-0097.

SUMMARY: The U.S. Department of Labor (USDOL), Bureau of International Labor Affairs (ILAB), intends to add up to U.S. $2 million to cooperative agreement #E-9-K-3-0097 with the Fundacion Del Servicio Exterior Para La Paz Y La Democracia (Funpadem) to strengthen labor compliance in Central America. The activities that will be implemented with the additional funds will commence no later than September 30, 2004 and continue for a period of three years until September 27, 2007. USDOL/ILAB intends to award this cooperative agreement on or after September 6, 2004. USDOL/ILAB published a Solicitation for Grant Applications (SGA 03-20) for this project in Vol. 68, No. 139 of the Federal Register on July 21, 2003. As a result of the competition, USDOL awarded a $6.75 million grant to Funpadem for a four year project that is set to run through September 2007. The purpose of the additional $2 million in funds is to expand the project to include two additional countries—the Dominican Republic and Panama—that are currently being negotiated for inclusion in the Central America Free Trade Agreement (CAFTA). Because Funpadem is the only organization to have developed and validated the strategy to achieve the objectives outlined in the original SGA, is currently recognized as the entity that will be implementing the USDOL-funded project, and has developed relationships with the necessary stakeholders and partners to ensure successful implementation, Funpadem is uniquely qualified to perform the type of activity to be funded. In addition, starting a new project with a new implementer would incur unnecessary costs for the Government and a delay in the time of completion of the project. Funpadem has already established a regional office and interviewed and hired personnel who will coordinate the project activities on a regional level. These regional staff have agreed to add to their portfolios these two additional countries, and the regional office will continue to be managed out of Funpadem's current office space. If a new project was established, it would mean two additional project offices, two directors, additional technical staff for each component, as well as two additional offices with their overhead, all to achieve what the current regional office has agreed to do with no additional staff costs.

FOR FURTHER INFORMATION CONTACT: Lisa Harvey, Grant Officer. U.S. Department of Labor, Procurement Services Center, 200 Constitution Ave., NW., Room N-5416, Washington, DC 20210. Telephone: (202) 693-4570. E-mail address: harvey.lisa@dol.gov. All inquiries should make reference to the USDOL Central America Labor Strengthening Grant Comply and Win.

SUPPLEMENTARY INFORMATION: The project funded under the current grant (currently titled “Cumple y Gana” or “Comply and Win”) has the following four objectives:

• Increase understanding of target audience in each country about national labor laws and norms.

• Create more effective and reliable Labor Ministry Inspection Systems to enforce labor laws.

• Increase and improve use of conciliation and mediation by the Ministries of Labor.

• Increase knowledge among interested parties of conciliation and mediation.

During a regular meeting of the Labor Ministers of the region, the Technical Director for this project presented the project strategy and objectives to the Labor Ministers of the region, including representatives of the Ministries of Labor of the Dominican Republic and Panama. The project strategy has also been developed with USDOL and other stakeholders in the region.

Signed at Washington, DC, this 31st day of August, 2004.
Valerie Veatch,
Director, Office of Procurement Services.

[FR Doc. 04-20313 Filed 9-7-04; 8:45 am]

BILLING CODE 4510-28-P